DEPARTMENT OF ENERGY

Federal Energy Regulatory Commission

Notice of Application for Change in Project Boundary and Soliciting Comments, Motions To Intervene, and Protests

September 28, 2001.

Take notice that the following application has been filed with the Commission and is available for public inspection:

a. Application Type: Authorization to exchange certain Coosa River Project, H. Neely Henry Development lands with the City of Gadsden, Alabama and change the project boundary for the development of a home improvement center (Lowe's Building Supply Store).

b. Project No. 2146-092.

c. Date Filed: September 6, 2001.

d. Licensee: Alabama Power Company.

e. Name of Project: Coosa River Hydroelectric Project.

f. Location: On the Coosa River, in Calhoun, St. Clair and Etowah Counties, Alabama. This project does not occupy any federal lands.

g. Filed Pursuant to: Federal Power Act, 16 U.S.C. 791(a)-825(r).

h. Licensee Contact: Mr. Jim Crew, Alabama Power Company, P.O. Box 2641, Birmingham, Alabama 35291. (205) 257-4265.

i. FERC Contact: Any questions on this notice should be addressed to Jean Potvin, jean.potvin@ferc.fed.us, or (202) 219-0022.

j. Deadline for filing comments and or motions: October 24, 2001.

All documents (original and eight copies) should be filed with Mr. David P. Boergers, Secretary, Federal Energy Regulatory Commission, 888 First Street, NE, Washington, DC 20426. Copies of this filing are on file with the Commission and are available for public inspection. Comments, protests and interventions may be filed electronically via the Internet in lieu of paper. See, 18 CFR 385.2001(a)(1)(iii) and the instructions on the Commission's web site under the “e-Filing” link.

k. Description of Proposal: This proposal includes: (1) The removal of 4.33 acres from project lands and the addition of 6.78 acres to the project; (2) fill 2.22 acres of wetlands and a borrow pit for the construction of this commercial development; (3) fill material will be discharged into the wetland areas to increase the site elevation by approximately 2 feet; (4) about 7,170 cubic yards of commercially obtained clean sand-clay material will be used at the site; and (5) mitigation for the proposal's impacts includes the placement of conservation easements on 1.38 acres of on-site wetlands and 20 acres of off-site wetlands.

l. Locations of the Application: A copy of the application is available for inspection and reproduction at the Commission's Public Reference Room, at 888 First Street, NE, Room 2A, Washington, D.C. 20426, or by calling 202-208-1371. Copies of this filing are on file with the Commission and are available for public inspection. This filing may also be viewed on the web at http://www.ferc.gov using the “RIMS” link, select “Docket#” and follow the instructions (call 202-208-2222 for assistance). A copy is also available for inspection and reproduction at the address in item h above.

m. Individuals desiring to be included on the Commission's mailing list should so indicate by writing to the Secretary of the Commission.

n. Comments, Protests, or Motions to Intervene—Anyone may submit comments, a protest, or a motion to intervene in accordance with the requirements of Rules of Practice and Procedure, 18 CFR 385.210, 385.211, 385.214. In determining the appropriate action to take, the Commission will consider all protests or other comments filed, but only those who file a motion to intervene in accordance with the Commission's Rules may become a party to the proceeding. Any comments, protests, or motions to intervene must be received on or before the specified comment date for the particular application.

o. Filing and Service of Responsive Documents—Any filings must bear in all capital letters the title “COMMENTS”, “RECOMMENDATIONS FOR TERMS AND CONDITIONS”, “PROTEST”, OR “MOTION TO INTERVENE”, as applicable, and the Project Number of the particular application to which the filing refers. A copy of any motion to intervene must also be served upon each representative of the Applicant specified in the particular application.

p. Agency Comments—Federal, state, and local agencies are invited to file comments on the described application. A copy of the application may be obtained by agencies directly from the Applicant. If an agency does not file comments within the time specified for filing comments, it will be presumed to have no comments. One copy of an agency's comments must also be sent to the Applicant's representatives.

Linwood A. Watson, Jr.,
Acting Secretary.

[FR Doc. 01-24892 Filed 10-2-01; 8:45 am]

BILLING CODE 6717-01-P